LEGAL SERVICES CORPORATION

Sunshine Act Meeting

DATE AND TIME: The Legal Services Corporation's Board of Directors and its six committees will meet January 30-February 1, 2020. On Thursday, January 30, the first meeting will commence at 1:00 p.m., Central Standard Time (CST), with each meeting thereafter commencing promptly upon adjournment of the immediately preceding meeting. On Friday, January 31, the first meeting will commence at 8:15 a.m. (CST), with the next meeting commencing promptly upon adjournment of the immediately preceding meeting. On Saturday, February 1, the open session meeting of the Board of Directors will commence at 8:00 a.m. (CST). The closed session meeting of the Board of Directors will commence promptly upon adjournment of the open session of the Board of Directors meeting.

LOCATION: DoubleTree by Hilton Hotel, 424 W Markham Street, Little Rock, Arkansas 72201.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call this toll-free number: 1-866-451-4981;

• When prompted, enter the following numeric pass code: 5907707348.

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule

| Time*
Thursday, January 30, 2020: | 1:00 p.m.
1. Operations and Regulations Committee
2. Delivery of Legal Services Committee
Friday, January 31, 2020: | 8:15 a.m.
1. Institutional Advancement Committee
2. Communications Subcommittee of the Institutional Advancement Committee
3. Audit Committee
4. Finance Committee
5. Governance and Performance Review Committee
Saturday, February 1, 2020: | 8:00 a.m.
1. OPEN Board Meeting
2. CLOSED Board Meeting

STATUS OF MEETING: Open, except as noted below.

* Please note that all times in this notice are in Central Standard Time.

Board of Directors—Open, except that, upon a vote of the Board of Directors, a portion of the meeting may be closed to the public to hear briefings by management and LSC's Inspector General, and to consider and act on the General Counsel's report on potential and pending litigation involving LSC, and on a list of prospective funders.**

** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

Audit Committee—Open, except that the meeting may be closed to the public to hear a briefing on the Office of Compliance and Enforcement's active enforcement matters.**

Institutional Advancement Committee—Open, except that, upon a vote of the Board of Directors, the meeting may be closed to the public to consider and act on recommendation of new Leaders Council invitees and to receive a briefing on the development activities.**

A verbatim written transcript will be made of the closed session of the Board, Institutional Advancement Committee, and Audit Committee meetings. However, the transcript of any portions of the closed sessions falling within the relevant provisions of the Government in the Sunshine Act, 5 U.S.C. 552b(c)(6) and (10), will not be available for public inspection.

A copy of the General Counsel's Certification that, in his opinion, the closing is authorized by law will be available upon request.

MATTERS TO BE CONSIDERED:

January 30, 2020

Operations and Regulations Committee

Open Session

1. Approval of agenda

2. Approval of minutes of the Committee's Open Session on October 20, 2019

3. Discussion of the Committee's 2019 Evaluation and 2020 Goals

4. Discussion of Management's report on implementation of the Strategic Plan 2017-2020

• Jim Sandman, President

5. Consider and act on commencing rulemaking to update 45 CFR part 1635-Timekeeping

• Ron Flagg, General Counsel and Vice President for Legal Affairs

• Stefanie Davis, Assistant General Counsel

6. Consider and act on Further Notice of Proposed Rulemaking to revise 45 CFR parts 1610—Use of Non-LSC Funds and 1630—Cost Standards

• Ron Flagg, General Counsel and Vice President for Legal Affairs

• Mark Freedman, Senior Associate General Counsel

7. Public comment

8. Consider and act on other business

9. Consider and act on motion to adjourn the meeting

Delivery of Legal Services Committee Committee

Open Session

1. Approval of agenda

2. Approval of minutes of the Committee's Open Session meeting of October 21, 2019

3. Discussion of the Committee's 2019 Evaluation and 2020 Goals

4. Update on revisions to LSC Performance Criteria

• Lynn Jennings, Vice President for Grants Management

5. Annual Briefing from the Office of Data Governance and Analysis

• Carlos Manjarrez, Chief Data Officer, Office of Data Governance and Analysis

6. Grantee Experiences with LSC—Executive Director panel presentation

• Jon Asher, Colorado Legal Services

• Marilyn Harp, Kansas Legal Services

• Kate Marr, Community Legal Aid SoCal

• Jessie Nicholson, Southern Minnesota Regional Legal Services

• Maria Thomas-Hones, Legal Aid of Northwest Texas

• Adrienne Worthy, Legal Aid of West Virginia

• Moderator: Joyce McGee, Director, Office of Program Performance

7. Public comment

8. Consider and act on other business

9. Consider and act on motion to adjourn the meeting

January 31, 2020

Institutional Advancement Committee

Open Session

1. Approval of agenda

2. Approval of minutes of the Institutional Advancement Committee's Open Session meeting of October 20, 2019

3. Discussion of the Committee's 2019 Evaluation and 2020 Goals

4. Update on Leaders Council and Emerging Leaders Council

• John G. Levi, Chairman of the Board

5. Development report

• Nadia Elguindy, Director of Institutional Advancement

• Jim Sandman, President

6. Consider and act on motion to approve renewal of LSC's National Voluntary Organizations Active in Disaster (NVOAD) membership

7. Public Comment

8. Consider and act on other business

9. Consider and act on motion to adjourn the open session meeting and proceed to a closed session

Closed Session

1. Approval of minutes of the Institutional Advancement Committee's Closed Session meeting of October 20, 2019

2. Development activities report

• Nadia Elguindy, Director of Institutional Advancement

3. Consider and act on motion to approve Leader's Council and Emerging Leaders Council invitees

4. Consider and act on other business

5. Consider and act on motion to adjourn the meeting

Communications Subcommittee of the Institutional Advancement Committee

Open Session

1. Approval of agenda

2. Approval of minutes of the Subcommittee's Open Session meeting on October 20, 2019

3. Discussion of the Subcommittee's 2019 Evaluation and 2020 Goals

4. Communications and social media update

• Carl Rauscher, Director of Communications and Media Relations

5. Public Comment

6. Consider and act on other business

7. Consider and act on motion to adjourn the meeting

Audit Committee

Open Session

1. Approval of agenda

2. Approval of minutes of the Committee's Open Session meeting of October 20, 2019

3. Discussion of the Committee's 2019 Evaluation and 2020 Goals

4. Briefing by Office of Inspector General

• Jeffrey Schanz, Inspector General

• Roxanne Caruso, Assistant Inspector General for Audit

5. Pursuant to Section VIII(C)(5) of the Committee Charter, review LSC's and the Office of Inspector General's mechanisms for the submission confidential complaints

• Dan O'Rourke, Assistant Inspector General for Investigations

• Lora Rath, Director, Office of Compliance and Enforcement

6. Management update regarding risk management

• Ron Flagg, Vice President for Legal Affairs

7. Briefing about follow-up by the Office of Compliance and Enforcement on referrals by the Office of Inspector General regarding audit reports and annual independent public audits of grantees

• Lora Rath, Director, Compliance and Enforcement

• Roxanne Caruso, Assistant Inspector General for Audits

• Lora Rath, Director, Office of Compliance and Enforcement

8. Public comment

9. Consider and act on other business

10. Consider and act on motion to adjourn the open session meeting and proceed to a closed session

Closed Session

1. Approval of minutes of the Committee's Closed Session meeting on October 20, 2019

2. Briefing by Office Compliance and Enforcement on active enforcement matter(s) and follow-up on open investigation referrals from the Office of Inspector General

• Lora Rath, Director, Compliance and Enforcement

3. Consider and act on adjournment of meeting

Finance Committee

Open Session

1. Approval of agenda

2. Approval of minutes of the Committee's Open Session meeting October 20, 2019

3. Discussion of the Committee's 2019 Evaluation and 2020 Goals

4. Discussion of LSC's FY 2020 appropriation

• Carol Bergman, Vice President, Government Relations & Public Affairs

5. Presentation of FY 2020 Consolidated Operating Budget

• Debbie Moore, Treasurer and Chief Financial Officer

6. Consider and act on Resolution 2020-XXX, LSC's Consolidated Operating

Budget for FY 2020

7. Presentation of LSC's Financial Report for the first three months of FY 2020

• Debbie Moore, Treasurer and Chief Financial Officer

8. Discussion of LSC's FY 2021 appropriations request

• Carol Bergman, Vice President, Government Relations & Public Affairs

9. Consider and act on Resolution 2020-XXX, a revised version of Board of Directors Resolution 2012-003, authorizing the Treasurer to Select LSC Funds Accounts and Depositories

• Debbie Moore, Treasurer and Chief Financial Officer

10. Report on banking activities

• Debbie Moore, Treasurer and Chief Financial Officer

11. Public comment

12. Consider and act on other business

13. Consider and act on motion to adjourn the meeting

Governance and Performance Review Committee

Open Session

1. Approval of agenda

2. Approval of minutes of the Committee's Open Session meeting of October 21, 2019

3. Discussion of Board and Committee Evaluations

• Discussion of the Committee's 2019 Evaluation and 2020 Goals

• Staff Report on 2019 Board and Committee Evaluations

• Carol Bergman, Vice President for Government Relations & Public Affairs

4. Discussion of President's Evaluation for 2019

5. Consider and act on resolution to appoint President

6. Consider and act on Resolution 2020-xxx to appoint Corporate Secretary

7. Consider and act on Resolution 2020-xxx to appoint James Sandman President Emeritus

8. Discussion of Inspector General's FY 2019 activities

9. Consider and act on other business

10. Public comment

11. Consider and act on motion to adjourn the meeting

February 1, 2020

Board of Directors

Open Session

1. Pledge of Allegiance

2. Approval of agenda

3. Approval of minutes of the Board's Open Session meeting of October 22, 2019

4. Approval of minutes of the Board's Open Session telephonic meeting of November 22, 2019

5. Consider and act on nominations for the Chair of the Board of Directors

6. Consider and act on nominations for the Vice Chair of the Board of Directors

7. Chairman's Report

8. Members' Reports

9. President's Report

10. Inspector General's Report

11. Consider and act on the report of the Operations and Regulations Committee

12. Consider and act on the report of the Governance and Performance Review Committee

13. Consider and act on the report of the Audit Committee

14. Consider and act on the report of the Finance Committee

15. Consider and act on the report of the Institutional Advancement Committee

16. Consider and act on the report of the Delivery of Legal Services Committee

17. Consider and act on Resolution 2020-XXX, Establishing a Veterans Task Force

18. Veterans Task Force Update

• Ron Flagg, Vice President for Legal Affairs, General Counsel, and Corporate Secretary

19. Opioid Task Force Update

• Ron Flagg, Vice President for Legal Affairs, General Counsel, and Corporate Secretary

20. Disaster Task Force Update

• Lynn Jennings, Vice President for Grants Management

21. Public Comment

22. Consider and act on other business

23. Consider and act on whether to authorize a closed session of the Board to address items listed below

Closed Session

1. Approval of minutes of the Board's Closed Session meeting of October 22, 2019

2. Management briefing

3. Inspector General briefing

4. Consider and act on General Counsel's report on potential and pending litigation involving LSC

5. Consider and act on list of prospective Leaders Council and Emerging Leaders Council invitees

6. Consider and act on motion to adjourn the meeting

CONTACT PERSON FOR INFORMATION: Karly Satkowiak, Special Counsel, at (202) 295-1633. Questions may be sent by electronic mail to satkowiakk@lsc.gov.

NON-CONFIDENTIAL MEETING MATERIALS: Non-confidential meeting materials will be made available in electronic format at least 24 hours in advance of the meeting on the LSC website, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Katherine Ward,
Executive Assistant to the Vice President for Legal Affairs, General Counsel & Corporate Secretary.

January 22, 2020

[FR Doc. 2020-01409 Filed 1-23-20; 11:15 am]

BILLING CODE 7050-01-P